DEPARTMENT OF JUSTICE

Notice of Lodging of Proposed Consent Decree Pursuant to the Comprehensive Environmental Response, Compensation and Liability Act

Pursuant to 28 CFR 50.7, notice is hereby given that on December 1, 2010, a proposed consent decree in United States v. Great American Financial Resources, Inc., Civil Action No. 6:10-cv-01783, was lodged with the United States District Court for the Middle District of Florida.

In this action the United States sought from the Great American Financial Resources, Inc. (GAFRI) (a) reimbursement of costs incurred and to be incurred by the United States Environmental Protection Agency (EPA) for response actions taken related to Operable Unit 1 (OU1) of the Sprague Electric Company Superfund Alternative Site (Site), located in Longwood, Seminole County, Florida, together with the accrued interest; and (b) performance of the remedial design and the remedial action for OU1 consistent with the National Contingency Plan, 40 CFR part 300 (as amended). The parties have reached a proposed settlement that requires GAFRI (a) to reimburse the United States for all past and future incurred costs relating to OU1 and (b) to undertake all OU1 response work for the Site.

The Department of Justice will receive for a period of thirty (30) days from the date of this publication comments relating to the proposed consent decree. Comments should be addressed to the Assistant Attorney General, Environment and Natural Resources Division, and either e-mailed to pubcomment-ees.enrd@usdoj.gov or mailed to U.S. Department of Justice, P.O. Box 7611, U.S. Department of Justice, Washington, DC 20044-7611,¹ and should refer to United States v. Great American Financial Resources, Inc., Civil Action No. 6:10-cv-01783, D.J. Ref. 90-11-3-09974.

¹ Comments should be addressed to the Assistant Attorney General even if the settlement was approved by some other officer of the Department (e.g., Section Chief or Associate Attorney General).

The proposed consent decree may be examined at the Office of the United States Attorney, 501 West Church Street, Suite 300, Orlando, FL 32805, and at U.S. EPA Region 4, 61 Forsyth Street, SW., Atlanta, GA 30303. During the public comment period, the Consent Decree may also be examined on the following Department of Justice Web site— http://www.usdoj.gov/enrd/Consent_Decree.html. A copy of the proposed consent decree may also be obtained by mail from the Consent Decree Library, P.O. Box 7611, U.S. Department of Justice, Washington, DC 20044-7611 or by faxing a request to Tonia Fleetwood (tonia.fleetwood@usdoj.gov), fax no. (202) 514-0097, phone confirmation number (202) 514-1547. In requesting a copy, please enclose a check in the amount of $45.25 (25 cents per page reproduction cost) payable to the U.S. Treasury. Alternatively, to request a copy of the proposed consent decree from the Consent Decree Library that does not include exhibits, please enclose a check in the amount of $11.50 (25 cents per page reproduction cost) payable to the U.S. Treasury.

Maureen Katz,
Assistant Chief, Environmental Enforcement Section, Environment and Natural Resources Division.

[FR Doc. 2010-31047 Filed 12-9-10; 8:45 am]

BILLING CODE 4410-15-P